ENVIRONMENTAL PROTECTION AGENCY

[CERCLA-04-2012-3763; FRL 9637-7]

Anniston PCB Superfund Site, Anniston, Calhoun County, Alabama; Notice of Amended Settlement

AGENCY: Environmental Protection Agency.

ACTION: Notice of Settlement.

SUMMARY: Under the Comprehensive Environmental Response, Compensation and Liability Act (CERCLA), the United States Environmental Protection Agency has entered into a settlement for past response costs concerning the Anniston PCB Superfund Site located in Anniston, Calhoun County, Alabama.

DATES: The Agency will consider public comments on the settlement until March 28, 2012. The Agency will consider all comments received and may modify or withdraw its consent to the settlement if comments received disclose facts or considerations which indicate that the settlement is inappropriate, improper, or inadequate.

ADDRESSES: Copies of the settlement are available from Ms. Paula V. Painter. Submit your comments by Site name Anniston PCB by one of the following methods:

• www.epa.gov/region4/superfund/programs/enforcement/enforcement.html.

• Email. Painter.Paula@epa.gov.

FOR FURTHER INFORMATION CONTACT: Paula V. Painter at 404/562-8887.

Dated: February 2, 2012.
Anita L. Davis,
Chief, Superfund Enforcement & Information Management Branch, Superfund Division.

[FR Doc. 2012-4482 Filed 2-24-12; 8:45 am]

BILLING CODE 6560-50-P